DEPARTMENT OF TRANSPORTATION

Federal Aviation Administration

14 CFR Part 71

[Docket No. FAA-2004-16091; Airspace Docket No. 03-ACE-74]

RIN 2120-AA66

Establishment of Jet Route 187, and Revision of Jet Routes 180 and 181; MO

AGENCY: Federal Aviation Administration (FAA), DOT.

ACTION: Final rule.

SUMMARY: This action establishes Jet Route 187 (J-187) from the Memphis, TN, Very High Frequency Omni-directional Range/Tactical Air Navigation (VORTAC) to the Foristell, MO, VORTAC. This action also extends J-180 from the Little Rock, AR, VORTAC to the Foristell VORTAC, and realigns J-181 between the Neosho Very High Frequency Omni-directional Range/Distance Measuring Equipment (VOR/DME) and the BAYLI intersection. The FAA is taking this action to enhance the management of aircraft operations over the St. Louis, MO area.

EFFECTIVE DATE: 0901 UTC, March 17, 2005.

FOR FURTHER INFORMATION CONTACT: Steve Rohring, Airspace and Rules, Office of System Operations and Safety, Federal Aviation Administration, 800 Independence Avenue, SW., Washington, DC 20591; telephone: (202) 267-8783.

SUPPLEMENTARY INFORMATION:

History

On April 15, 2004, the FAA published in the Federal Register a notice proposing to establish J-187, and revise J-180 and J-181 (69 FR 19963). As part of the National Airspace Redesign project, a review of aircraft operations has identified a need to revise the jet route structure over the St. Louis, MO area. The FAA believes that establishing J-187 and revising the existing J-180 and J-181 will enhance the management of aircraft operations destined for the Lambert-St. Louis International Airport and the Chicago O'Hare International Airport. Interested parties were invited to participate in this rulemaking proceeding by submitting written comments on this proposal to the FAA. No comments were received in response to the proposal.

The Rule

The FAA is amending Title 14 Code of Federal Regulations (14 CFR) part 71 (part 71) by establishing J-187, and revising J-180 and J-181 in the St. Louis, MO area. Specifically, this action establishes J-187 from the Memphis, TN, VORTAC to the Foristell, MO, VORTAC. This action also revises J-180 by extending it from the Little Rock, AR, VORTAC to the Foristell VORTAC and J-181 by realigning the segments between the Neosho VOR/DME and the BAYLI intersection. The FAA believes that this action will enhance the management of aircraft operations over the St. Louis, MO area.

Jet routes are published in paragraph 2004 of FAA Order 7400.9L dated September 2, 2003, and effective September 16, 2003, which is incorporated by reference in 14 CFR 71.1. The jet routes listed in this document will be published subsequently in the order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Policies and Procedures for Considering Environmental Impacts. This airspace action is not expected to cause any potentially significant impacts, and no extraordinary circumstances exist that warrant preparation of an environmental assessment.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9L, Airspace Designations and Reporting Points, dated September 2, 2003, and effective September 16, 2003, is amended as follows:

Paragraph 2004 Jet Routes

* * * * *

J-180 [Revised]

From Humble, TX; Daisetta, TX; Sawmill, LA; Little Rock, AR; Foristell, MO.

J-181 [Revised]

From Ranger, TX; Okmulgee, OK; Neosho, MO; Hallsville, MO; INT Hallsville 053° and Bradford, IL, 219° radials; to Bradford.

* * * * *

J-187 [New]

From Memphis, TN; Foristell, MO.

* * * * *

Issued in Washington, DC, on November 29, 2004.
Reginald Matthews,
Manager, Airspace and Rules.

[FR Doc. 04-26749 Filed 12-3-04; 8:45 am]

BILLING CODE 4910-13-P